DEPARTMENT OF ENERGY

Federal Energy Regulatory Commission

Combined Notice of Filings #1

May 4, 2006.

Take notice that the Commission received the following electric rate filings.

Docket Numbers: ER00-2687-008.

Applicants: Union Electric Company.

Description: Union Electric Co dba AmerenUE notifies FERC of certain changes in status relevant to its continued authorization to sell power at market-based rates.

Filed Date: 4/27/2006.

Accession Number: 20060501-0364.

Comment Date: 5 p.m. eastern time on Thursday, May 18, 2006.

Docket Numbers: ER02-1406-013; ER99-2928-009; ER01-1099-012.

Applicants: Acadia Power Partners, LLC; Cleco Evangeline LLC; Cleco Power LLC.

Description: Acadia Power Partners, LLC, et al. notify FERC of a change in status resulting from acquired control of generation facilities it owns as a consequence of amendments to the purchase agreement with Tenaska Power Services Co.

Filed Date: 4/21/2006.

Accession Number: 20060502-0055.

Comment Date: 5 p.m. eastern time on Friday, May 12, 2006.

Docket Numbers: ER03-354-001.

Applicants: Ormet Power Marketing, LLC.

Description: Ormet Power Marketing, LLC submits its triennial market-power update pursuant to FERC's directive in its 2/24/03 order.

Filed Date: 4/21/2006.

Accession Number: 20060502-0053.

Comment Date: 5 p.m. eastern time on Friday, May 12, 2006.

Docket Numbers: ER04-994-002; ER04-657-007; ER04-660-007; ER04-659-007.

Applicants: Boston Generating, LLC; Mystic I, LLC; Mystic Development, LLC; Fore River, LLC.

Description: Boston Generating, LLC on behalf of itself and Mystic I LLC et al. submits a notification of a non-material change in status relating to their authorizations to sell power at market-based rates.

Filed Date: 4/27/2006.

Accession Number: 20060501-0365.

Comment Date: 5 p.m. eastern time on Thursday, May 18, 2006.

Docket Numbers: ER05-6-057; EL04-135-059; EL02-111-077, EL03-212-073.

Applicants: PJM Transmission Owners.

Description: PJM Transmission Owners submit FERC Electric Tariff, Sixth Revised Volume 1 to its OATT, pursuant to section 205 of the Federal Power Act.

Filed Date: 4/24/2006.

Accession Number: 20060501-0362.

Comment Date: 5 p.m. eastern time on Monday, May 15, 2006.

Docket Numbers: ER05-1233-002.

Applicants: MidAmerican Energy Company.

Description: MidAmerican Energy Co. submits substituted pro forma revised tariff sheets to its Open Access Transmission Tariff, pursuant to Order 614.

Filed Date: 04/24/2006.

Accession Number: 20060502-0052.

Comment Date: 5 p.m. eastern time on Monday, May 15, 2006.

Docket Numbers: ER05-1501-002.

Applicants: California Independent System Operator.

Description: California Independent System Operator submits an errata to its compliance filing in response to comments.

Filed Date: 4/27/2006.

Accession Number: 20060501-0367.

Comment Date: 5 p.m. eastern time on Thursday, May 11, 2006.

Docket Numbers: ER06-439-001.

Applicants: Otter Tail Corporation.

Description: Otter Tail Power Co submits its compliance filing, pursuant to Commission letter order dated 2/24/06.

Filed Date: 4/25/2006.

Accession Number: 20060501-0339.

Comment Date: 5 p.m. eastern time on Tuesday, May 16, 2006.

Docket Numbers: ER06-538-002.

Applicants: Llano Estacado Wind, LP

Description: Llano Estacado Wind, LP submits a tariff amendment designated as FERC Electric Tariff, First Revised Volume 1, Second Substitute Original Sheet 1.

Filed Date: 4/25/2006.

Accession Number: 20060428-0119.

Comment Date: 5 p.m. eastern time on Tuesday, May 16, 2006.

Docket Numbers: ER06-550-003.

Applicants: Pacific Gas & Electric Company.

Description: Pacific Gas and Electric Co submits a compliance filing, pursuant to the Commission's 2/24/06 addressing two modification to its tariff sheets.

Filed Date: 4/24/2006.

Accession Number: 20060501-0369.

Comment Date: 5 p.m. eastern time on Monday, May 15, 2006.

Docket Numbers: ER06-554-001.

Applicants: Virginia Electric and Power Company.

Description: Virginia Electric and Power Co dba Dominion Virginia Power submits corrected heating loss calculations for Clover Units 1 and 2 and a revised revenue requirement in compliance with FERC's 3/28/06 order.

Filed Date: 4/27/2006.

Accession Number: 20060501-0370.

Comment Date: 5 p.m. eastern time on Thursday, May 18, 2006.

Docket Numbers: ER06-593-001.

Applicants: Southwest Power Pool, Inc.

Description: Southwest Power Pool, Inc. submits a revised executed Agreement to Sponsor Facilities Upgrades with Redbud Energy, LP and Oklahoma Gas and Electric Co. pursuant to the Commission's order issued 3/31/06.

Filed Date: 4/26/2006.

Accession Number: 20060501-0371.

Comment Date: 5 p.m. eastern time on Wednesday, May 17, 2006.

Docket Numbers: ER06-889-000.

Applicants: PSEG Nuclear LLC; PSEG Fossil LLC; PSEG Energy Resources & Trade LLC.

Description: PSEG Fossil, LLC, PSEG Nuclear, LLC and PSEG Energy Resources & Trade, LLC submits a petition of waiver Part 35 Subparts B and C etc. of the Commission regulations.

Filed Date: 4/26/2006.

Accession Number: 20060502-0051.

Comment Date: 5 p.m. eastern time on Wednesday, May 17, 2006.

Docket Numbers: ER06-890-000.

Applicants: Hampton Lumber Mills-Washington, Inc.

Description: Hampton Lumber Mills-Washington Inc. submits a petition for acceptance of its market-based rate authority for Rate Schedule No. 1, waivers and blanket authority.

Filed Date: 4/26/2006.

Accession Number: 20060501-0375.

Comment Date: 5 p.m. eastern time on Wednesday, May 17, 2006.

Docket Numbers: ER06-891-000.

Applicants: Gauley River Power Partners, L.P.

Description: Gauley River Power Partners, L.P. submits a notice of cancellation of FERC Rate Schedule No. 1.

Filed Date: 4/27/2006.

Accession Number: 20060501-0376.

Comment Date: 5 p.m. eastern time on Thursday, May 18, 2006.

Docket Numbers: ER06-892-000.

Applicants: CHI Power Marketing Inc.

Description: CHI Power Marketing, Inc. submits a notice of cancellation of FERC Rate Schedule No. 1.

Filed Date: 4/27/2006.

Accession Number: 20060501-0377.

Comment Date: 5 p.m. eastern time on Thursday, May 18, 2006.

Docket Numbers: ER06-893-000.

Applicants: Western New York Wind Corp.

Description: Western New York Wind Corp submits a notice of cancellation of FERC Rate Schedule No. 1.

Filed Date: 4/27/2006.

Accession Number: 20060501-0378.

Comment Date: 5 p.m. eastern time on Thursday, May 18, 2006.

Docket Numbers: ER06-894-000.

Applicants: Entergy Services Inc.; Entergy Operating Companies; City of Prescott, Arkansas.

Description: Entergy Services Inc., agent for Entergy Operating Companies and the City of Prescott submit their executed Network Operating Agreement and Network Integrated Transmission Service Agreement, effective 5/1/06.

Filed Date: 4/27/2006.

Accession Number: 20060501-0379.

Comment Date: 5 p.m. eastern time on Thursday, May 18, 2006.

Docket Numbers: ER95-216-027.

Applicants: Aquila Merchant Services, Inc.

Description: Aquila Merchant Services, Inc. submits Substitute First Revised Sheet 1 to its FERC Electric Tariff, First Revised Volume 1, pursuant to FERC's 3/17/06 order.

Filed Date: 4/21/2006.

Accession Number: 20060502-0054.

Comment Date: 5 p.m. eastern time on Friday, May 12, 2006.

Docket Numbers: ER95-1018-009; EL05-111-005.

Applicants: Kohler Company.

Description: Kohler Company submits an amendment to its Annual Market Power Analysis in response to the deficiency order issued 2/1/06.

Filed Date: 4/27/2006.

Accession Number: 20060501-0363.

Comment Date: 5 p.m. eastern time on Thursday, May 18, 2006.

Docket Numbers: ER97-2846-009.

Applicants: Florida Power Corporation.

Description: Florida Power Corp. dba Progress Energy Florida Inc. notifies FERC that it has entered into a contract effective 3/17/06 for the purchase of capacity from Reliant Energy.

Filed Date: 4/25/2006.

Accession Number: 20060501-0384.

Comment Date: 5 p.m. eastern time on Tuesday, May 16, 2006.

Docket Numbers: ER99-3426-006.

Applicants: San Diego Gas & Electric Company.

Description: San Diego Gas & Electric Co. submits a report of change in status pursuant to Order 652.

Filed Date: 4/27/2006.

Accession Number: 20060501-0385.

Comment Date: 5 p.m. eastern time on Thursday, May 18, 2006.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Magalie R. Salas,
Secretary.

[FR Doc. E6-7204 Filed 5-10-06; 8:45 am]

BILLING CODE 6717-01-P